FEDERAL MARITIME COMMISSION

Ocean Transportation Intermediary License Applicants The Commission gives notice that the following applicants have filed an application for an Ocean Transportation Intermediary (OTI) license as a Non-Vessel-Operating Common Carrier (NVO) and/or Ocean Freight Forwarder (OFF) pursuant to section 19 of the Shipping Act of 1984 (46 U.S.C. 40101). Notice is also given of the filing of applications to amend an existing OTI license or the Qualifying Individual (QI) for a licensee. Interested persons may contact the Office of Ocean Transportation Intermediaries, Federal Maritime Commission, Washington, DC 20573, by telephone at (202) 523-5843 or by email at OTI@fmc.gov.

A-1 Fargo Van and Storage, Inc. (OFF), 7700 SW. 100th Street, Miami, FL 33156. Officers: Treva E. Ward, Vice President (QI), Virgil L. Hale, President. Application Type: New OFF License.

Avantage Worldwide Company LLC dba Avantage Worldwide Forwarding (OFF), 1265 South Main Street, Suite 303, Seattle, WA 98144. Officer: Victor Viet Quoc Tran, Member (QI). Application Type: New OFF License.

Barker International, Inc. (NVO & OFF), 2259 University Drive, Naperville, IL 60565. Officers: Peter R. Barker, President (QI), Maureen E. Barker, Secretary. Application Type: New NVO & OFF License.

Bruzzone Shipping, Inc. (NVO & OFF), 224 Buffalo Avenue, Freeport, NY 11520. Officers: Victor J. Bruzzone, President (QI), Fred A. Bruzzone, Vice President. Application Type: QI Change.

Efrinsa Global Logistics Inc. (NVO & OFF), 8441 NW 68th Street, Miami, FL 33166. Officers: Christian Urquizo, Director (QI), Leonida E. Baca-Ames, President. Application Type: New NVO & OFF License.

Inter-Commerce Exports, LLC dba Ice Shipping Lines (NVO & OFF), 9754 Whithorn Drive, Suite A, Houston, TX 77095. Officers: James Santamaria, President (QI), Paula M. Guccione, Vice President. Application Type: New NVO & OFF License.

Lawrence Family Enterprises, Inc. dba A&A Transportation (OFF), 965 Piedmont Road, Suite 220, Marietta, GA 30066. Officers: Jimmy F. Lawrence, Vice President (QI), Sheila E. Lawrence, President. Application Type: New OFF License.

MMC Logistics, LLC (OFF), 2853 Henderson Mill Road, Atlanta, GA 30341. Officer: John S. Chihade, Manager (QI). Application Type: New OFF License.

NDA Worldwide Logistics Corp. (NVO & OFF), 9000 Bellanca Avenue, Suite 112, Los Angeles, CA 90045. Officer: Norman D. Arauz, President (QI). Application Type: New NVO & OFF License.

OTX Logistics, Inc. (NVO & OFF), 12801 S. Figueroa Street, Los Angeles, CA 90061. Officers: Stacy Allen-Kohn, Vice President (QI), Harmut Haenisch, President. Application Type: QI Change/Add Trade Names, PAC Worldwide Transport Co., PAC International Logistics Company, & Book Express Network.

Stealth Logistics LLC (NVO & OFF), 1278 S. Farmview Drive, Dover, DE 19904. Officers: Daryl T. Washington, President (QI), Lalit Raina, Vice President. Application Type: New NVO & OFF License.

Worldwide Shipping Corporation (NVO & OFF), 19223 E. Colima Road, Suite 935, Rowland Heights, CA 91748. Officer: Willie Wu, President (QI). Application Type: New NVO & OFF License.

By the Commission.
Dated: December 21, 2012.
Karen V. Gregory,
Secretary.

[FR Doc. 2012-31312 Filed 12-27-12; 8:45 am]

BILLING CODE 6730-01-P